DEPARTMENT OF TRANSPORTATION

Surface Transportation Board

[Docket No. FD 35685]

Rail Switching Services, Inc.—Operation Exemption—Pemiscot County Port Authority

Rail Switching Services, Inc. (RSS), a noncarrier, filed a verified notice of exemption under 49 CFR 1150.31 ¹ to operate approximately 4.9 miles of rail line owned by Pemiscot County Port Authority (PCPA) between the BNSF Railway Co. (BNSF) interchange at milepost 212.32, at Hayti, Mo., and milepost 217.22, at Pemiscot Port Harbor, on the Mississippi River between Hayti and Caruthersville, Mo (the Line).

¹ RSS states that it is seeking an operation exemption pursuant to 49 CFR 1150.41. However, because RSS is not yet a Class III carrier, it must seek this authority pursuant to 49 CFR 1150.31. As such, the notice will be considered filed under 49 CFR 1150.31 instead.

According to RSS, it began performing contract switching services for PCPA in 2008 but has handled only empty storage cars. RSS states that, at the time, it was unaware that PCPA had obtained construction authority and was a common carrier. See Pemiscot Cnty. Port Auth.—Constr. Exemption—Pemiscot Cnty., Mo., FD 34117 (STB served Aug. 26, 2003). According to RSS, at least one customer has located on the Line and wishes to receive shipments from the BNSF interchange. RSS now seeks an operation exemption for authority to operate over the Line.

This transaction is related to a concurrently filed verified notice of exemption in Pioneer Railcorp—Continuance in Control Exemption—Rail Switching Services, Inc., Docket No. FD 35686, in which Pioneer Railcorp seeks to continue in control of RSS, upon RSS's becoming a Class III rail carrier.

The transaction may be consummated on or after November 14, 2012 (30 days after the notice of exemption was filed).

RSS certifies that its projected annual revenues as a result of this transaction will not result in RSS's becoming a Class I or Class II rail carrier and will not exceed $5 million.

If the verified notice contains false or misleading information, the exemption is void ab initio. Petitions to revoke the exemption under 49 U.S.C. 10502(d) may be filed at any time. The filing of a petition to revoke will not automatically stay the effectiveness of the exemption. Petitions for stay must be filed no later than November 7, 2012 (at least seven days before the exemption becomes effective).

An original and 10 copies of all pleadings, referring to Docket No. FD 35685, must be filed with the Surface Transportation Board, 395 E Street SW., Washington, DC 20423-0001. In addition, one copy of each pleading must be served on Daniel A. LaKemper, Rail Switching Services, Inc., 1318 S. Johanson Road, Peoria, IL 61607.

Board decisions and notices are available on our Web site at “WWW.STB.DOT.GOV.”

Decided: October 25, 2012.
By the Board, Rachel D. Campbell, Director, Office of Proceedings.
Jeffrey Herzig,
Clearance Clerk.

[FR Doc. 2012-26788 Filed 10-30-12; 8:45 am]

BILLING CODE 4915-01-P